U.S.-CHINA ECONOMIC AND SECURITY REVIEW COMMISSION

Notice of Open Public Hearing

AGENCY: U.S.-China Economic and Security Review Commission.

ACTION: Notice of open public hearing.

SUMMARY: Notice is hereby given of the following hearing of the U.S.-China Economic and Security Review Commission.

Name: Larry M. Wortzel, Chairman of the U.S.-China Economic and Security Review Commission.

The Commission is mandated by Congress to investigate, assess, evaluate and report to Congress annually on the U.S.-China economic and security relationship. The mandate specifically charges the Commission to investigate “the degree of non-compliance by the People's Republic of China with agreements between the United States and the People's Republic of China on * * * intellectual property rights.”

Pursuant to this mandate, the Commission will hold a public hearing in Washington, DC on June 7-8, 2006.

Background

This event is the fifth in a series of public hearings the Commission will hold during its 2006 report cycle to collect input from leading experts in academia, business, industry, government and the public on the impact of the economic and national security implications of the U.S. growing bilateral trade and economic relationship with China. The June 7-8 hearing is being conducted to obtain commentary about issues connected to China's intellectual property rights policies and implementation. Information on upcoming hearings, as well as transcripts of past Commission hearings, can be obtained from the USCC Web site http://www.uscc.gov.

This hearing will address “China's Enforcement of IPR; Movement of Counterfeited and Pirated Goods Into the U.S. and their Dangers” and will be Co-chaired by Commissioners C. Richard D'Amato and Kerri Houston.

Purpose of Hearing

The hearing is designed to assist the Commission in fulfilling its mandate by assessing China's compliance with its World Trade Organization accession agreement on intellectual property rights, examining how China's policies are affecting U.S. national security, and entertainment, recording, pharmaceutical and automotive industries, and identifying how the U.S. government can improve the current level of intellectual property rights protection.

Copies of the hearing agenda will be made available on the Commission's Web site http://www.uscc.gov. Any interested party may file a written statement by June 8, 2006, by mailing to the contact below.

Date and Time: Wednesday, June 7, 2006, 8:30 a.m. to 5 p.m., and Thursday, June 8, 2006, 9:30 a.m. to 1 p.m. Eastern Standard Time. A detailed agenda for the hearing will be posted to the Commission's Web Site at www.uscc.gov in the near future.

ADDRESSES: The hearing will be held on Capitol Hill in Room 385 Russell Senate Office Building located at Delaware & Constitution Avenues, NE., Washington, DC 20510. Public seating is limited to about 50 people on a first come, first served basis. Advance reservations are not required.

FOR FURTHER INFORMATION CONTACT: Any member of the public wishing further information concerning the hearing should contact Kathy Michels, Associate Director for the U.S.-China Economic and Security Review Commission, 444 North Capitol Street, NW., Suite 602, Washington, DC 20001; phone 202-624-1409, or via e-mail at kmichels@uscc.gov.

Authority: Congress created the U.S.-China Economic and Security Review Commission in 2000 in the National Defense Authorization Act (Public Law 106-398 as amended by Division P of the Consolidated Appropriations Resolution, 2003 (Public Law 108-7), as amended by Public Law 109-108 (November 22, 2005).

Dated: May 17, 2006.
Kathleen J. Michels,
Associate Director, U.S.-China Economic and Security Review Commission.

[FR Doc. E6-7795 Filed 5-19-06; 8:45 am]

BILLING CODE 1137-00-P